DEPARTMENT OF COMMERCE

International Trade Administration

Notice of Scope Rulings

AGENCY: Enforcement and Compliance, International Trade Administration, Department of Commerce.

SUMMARY: The U.S. Department of Commerce (Commerce) hereby publishes a list of scope rulings and circumvention determinations made during the period April 1, 2024, through June 30, 2024. We intend to publish future lists after the close of the next calendar quarter.

DATES: Applicable November 15, 2024.

FOR FURTHER INFORMATION CONTACT: Marcia E. Short, AD/CVD Operations, Customs Liaison Unit, Enforcement and Compliance, International Trade Administration, U.S. Department of Commerce, 1401 Constitution Avenue NW, Washington, DC 20230; telephone: 202-482-1560.

SUPPLEMENTARY INFORMATION:

Background

Commerce regulations provide that it will publish in the Federal Register a list of scope rulings on a quarterly basis.¹ Our most recent notification of scope rulings was published on August 5, 2024.² This current notice covers all scope rulings made by Enforcement and Compliance between April 1, 2024, and June 30, 2024.

¹ See 19 CFR 351.225(o).

² See Notice of Scope Rulings, 89 FR 63407-08 (August 5, 2024).

Scope Rulings Made April 1, 2024, Through June 30, 2024

Germany

A-428-849: Common Alloy Aluminum Sheet From Germany

Requestor: Capps Manufacturing Inc. Heat-treatable clad alloy aluminum sheets with either Aluminum Association alloy designation 2024 or 7075 are not covered by the scope of the antidumping duty order on common alloy aluminum sheet from Germany because common alloy aluminum sheet is not defined in the scope as having aluminum alloy designations in the 2XXX or 7XXX series: May 22, 2024.

People's Republic of China (China)

A-570-831: Fresh Garlic From China

Requester: Marcatus QED, Inc. Whole garlic cloves preserved in brine are covered by the scope of the antidumping order on fresh garlic from China because whole garlic cloves that are “provisionally preserved” fall under the plain language of the scope. In addition, the garlic is not considered to be “heat processed”: April 18, 2024.

A-570-053 and C-570-054: Certain Aluminum Foil From China

Requestor: Instrument Transformers, LLC (an operating unit of the General Electric Company). Aluminum capacitor foil is covered by the scope of the antidumping duty and countervailing duty orders on certain aluminum foil from China because foil is within the plain language of the scope of the orders: April 26, 2024.

A-570-073 and C-570-074: Common Alloy Aluminum Sheet From China

Requestor: K-Tex LLC. Aluminum composite panels consisting of a thermoplastic core between two aluminum alloy sheets (aluminum composite panels) produced by a certain Chinese producer and imported by K-Tex LLC are covered by the scope of the antidumping duty and countervailing duty orders on common alloy aluminum sheet from China because aluminum composite panels share similarities with common alloy aluminum sheet based on the following factors: physical characteristics, expectations of the ultimate user, ultimate use, channels of trade, and advertising: April 26, 2024.

A-570-827: Certain Cased Pencils From China

Requestor: School Specialty, LLC. #2 pencils, drawing pencils, and colored pencils manufactured by School Specialty in the Philippines using Chinese inputs and exported from the Philippines to the United States are covered by the scope of the order: May 6, 2024.

A-570-117 and C-570-118: Wood Mouldings and Millwork Products From China

Requestor: Chicago Dowel Company determine that the wooden dowels, which are later developed into lollipop sticks are within the scope of the order; May 22, 2024.

Notification to Interested Parties

Interested parties are invited to comment on the completeness of this list of completed scope inquiries and scope/circumvention inquiry combinations made during the period April 1, 2024, through June 30, 2024. Any comments should be submitted to the Deputy Assistant Secretary for AD/CVD Operations, Enforcement and Compliance, International Trade Administration, via email to CommerceCLU@trade.gov.

This notice is published in accordance with 19 CFR 351.225(o).

Dated: November 7, 2024.
Scot Fullerton,
Acting Deputy Assistant Secretary for Antidumping and Countervailing Duty Operations.

[FR Doc. 2024-26642 Filed 11-14-24; 8:45 am]

BILLING CODE 3510-DS-P